DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Innovative Technologies for Urban Infrastructure Development Trade Mission to the Philippines and Indonesia—November 12-November 20, 2024. A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, notices by industry trade associations and other multiplier groups, and publicity at industry meetings, symposia, conferences, and trade shows.

FOR FURTHER INFORMATION CONTACT: Jeffrey Odum, Trade Events Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department may either: reject the application, request additional information/clarification, or take the lack of information into account when evaluating the application. If the requisite minimum number of participants is not selected for a particular mission by the recruitment deadline, the mission may be canceled.

Each applicant must also certify that the products and services it seeks to export through the mission are either produced in the United States, or, if not, are marketed under the name of a U.S. firm and have at least 51 percent U.S. content by value. In the case of a trade association or organization, the applicant must certify that, for each firm or service provider to be represented by the association/organization, the products and/or services the represented firm or service provider seeks to export are either produced in the United States or, if not, marketed under the name of a U.S. firm and have at least 51 percent U.S. content by value.

A trade association/organization applicant must certify to the above for all of the companies it seeks to represent on the mission.

In cases where applicants cannot certify 51 percent U.S. content, especially where the applicant intends to pursue investment in major project opportunities, the following factors may be considered in determining whether the applicant's participation in the mission is in the U.S. national interest:

• U.S. materials and equipment content;

• U.S. labor content;

• Contribution to the U.S. technology base, including conduct of research and development in the United States;

• Repatriation of profits to the U.S. economy; and

• Potential for follow-on business that would benefit the U.S. economy.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers, and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including the likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Innovative Technologies for Urban Infrastructure Development Trade Mission to the Philippines and Indonesia—November 12-November 20

Summary

The United States Department of Commerce, International Trade Administration (ITA), is organizing an Innovative Technologies for Urban Infrastructure Development Trade Mission to the Philippines and Indonesia from November 12 through November 20, 2024 with stops in Manila and New Clark City in the Philippines, and Jakarta and Denpasar in Indonesia. In addition to these stops, mission participants can join an optional additional stop in Nusantara, Indonesia's future capital city.

The objective of this mission is to advance U.S. national interests by supporting the implementation of ambitious digital transformation agendas that the Philippines and Indonesia are pursuing to develop urban technology infrastructure for the benefit of their communities. The business development mission to Indonesia was jointly announced as a digital transformation deliverable to promote increased trade and investment relations with the United States by Presidents Biden and Jokowi at the White House on November 13, 2023, when the two leaders elevated the U.S.-Indonesia relationship to a Comprehensive Strategic Partnership. Commerce's trade mission team subsequently added stops in the Philippines, to expand opportunities for U.S. companies to contribute to digital transformation and infrastructure development projects in two dynamic Southeast Asian maritime markets.

Mission participants will have the opportunity to discuss their smart cities technology and service solutions with government officials, prospective business partners, and smart city experts. Participants will learn about the many smart city business opportunities in the Philippines and Indonesia and gain first-hand market exposure. Mission participants already doing business in the Philippines and Indonesia can further advance business relationships and explore new priorities.

Best Prospects

The below list, while not exhaustive, identifies key products, services, and technologies that would be an appropriate fit for the trade mission. ITA is committed to assembling a trade mission delegation that is representative of a broad range of information and communication technology sectors, with an emphasis on sectors that advance digital and urban infrastructure development.

• Artificial Intelligence

• Cybersecurity

• Digital Economy

• Energy and Environmental Technologies for Sustainability and Climate Resilience

• Green Buildings

• Information and Communication Technologies (ICT)

• Smart City Technologies and Services

• Standards

• Telecommunications

• Transportation and Urban Mobility

• Urban Infrastructure Development

Other Products and Services

Applications from companies selling products or services within the scope of this mission, but not specifically identified in the categories above will be considered and evaluated by the U.S. Department of Commerce. Companies whose products or services do not fit the scope of the mission may contact their local U.S. Commercial Service Domestic Office to learn about other business development missions and services that may provide more targeted export opportunities. Companies may go to http://trade.gov to obtain such information.

Proposed Timetable
[* Note: The final schedule and potential site visits will depend on the availability of host government and business officials, specific goals of mission participants, and ground transportation.]
November 12, 2024, Manila, Philippines | • All Trade Mission Participants Arrive in Manila.
November 13, 2024, Manila, Philippines | • Official Trade Mission Program Commences. • MANILA (Full Day Sessions). • Networking Reception.
November 14, 2024, New Clark City, Philippines—Denpasar, Indonesia | • Travel to NEW CLARK CITY. • Visit NEW CLARK CITY (Half-Day Sessions). • Travel to DENPASAR, Indonesia (Evening).
November 15, 2024, Denpasar, Indonesia | • DENPASAR (Full Day Sessions).
November 16, 2024, Denpasar, Indonesia | • DENPASAR (Full Day Sessions).
November 17, 2024, Denpasar, Indonesia—Jakarta, Indonesia | • DENPASAR (Off Day). • Travel to JAKARTA.
November 18, 2024, Jakarta, Indonesia | • JAKARTA (Full Day Sessions). • Networking Lunch. • Networking Reception in Jakarta.
November 19, 2024, Jakarta, Indonesia—Balikpapan, Indonesia | • Companies participating in Spinoffs travel to the next stop. • SPINOFF: BALIKPAPAN (Full Day Sessions).
November 20, 2024, Nusantara, Indonesia—Jakarta, Indonesia | • SPINOFF: NUSANTARA (Full Day Sessions). • Travel to JAKARTA (Evening). • Official Trade Mission Concludes.

Participation Requirements

All parties interested in participating in the trade mission must complete and submit an application package for consideration by the Department of Commerce. All applicants will be evaluated on their ability to meet certain conditions and best satisfy the selection criteria as outlined above. A minimum of 12 and a maximum of 15 firms and/or trade associations will be selected to participate in the mission from the applicant pool.

Fees and Expenses

After a firm or trade association has been selected to participate in the mission, a payment to the Department of Commerce in the form of a participation fee is required. The participation fee for the Business Development Mission will be $4,750 for small or medium-sized enterprises (SME); ¹ and $5,000 for large firms or trade associations. For any participant who wants to travel to Nusantara, there will be an additional fee of $500. The fee for each additional firm representative (large firm or SME/trade organization) is $800. Expenses for travel, lodging, meals, and incidentals will be the responsibility of each mission participant. Interpreter and driver services can be arranged for additional cost. Delegation members will be able to take advantage of U.S. Embassy rates for hotel rooms.

¹ For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

If and when an applicant is selected to participate in a particular mission, a payment to the Department of Commerce in the amount of the designated participation fee above is required. Upon notification of acceptance to participate, those selected have five business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is canceled, no personal expenses paid in anticipation of a mission will be reimbursed. However, participation fees for a canceled mission will be reimbursed to the extent they have not already been expended in anticipation of the mission.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previously selected applicants with the option to opt-in to the new virtual program.

Timeframe for Recruitment and Applications

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than September 6, 2024. The U.S. Department of Commerce will review applications and inform applicants of selection decisions on a rolling basis. Applications received after September 6, 2024, will be considered only if space and scheduling constraints permit.

Contacts

Christopher Feather, Commercial Officer, U.S. Embassy in Indonesia—Jakarta, +62-21-5083-2272, Christopher.Feather@trade.gov

Oryza Astari, Indonesia Desk Officer, Office of Southeast Asia—Washington, DC, +1-771-216-4982, Oryza.Astari@trade.gov

Anne Marie Brooks, Commercial Officer, U.S. Embassy in the Philippines—Manila, +63-998-961-9860, AnneMarie.Brooks@trade.gov

Elliott Brewer, Philippines Desk Officer, Office of Southeast Asia—Washington, DC, +1-202-430-8025, Elliott.Brewer@trade.gov

Molly Ho, Global ICT Team Director, Senior International Trade Specialist, U.S. Commercial Service—Denver, +1-303-889-9789, Molly.Ho@trade.gov

Gemal Brangman,
Director, ITA Events Management Task Force.

[FR Doc. 2024-14638 Filed 7-2-24; 8:45 am]

BILLING CODE 3510-DR-P